Title 3—

The President

Notice of July 31, 2003

Continuation of the National Emergency With Respect to Iraq

On August 2, 1990, by Executive Order 12722, President Bush declared a national emergency with respect to Iraq pursuant to the International Emergency Economic Powers Act (50 U.S.C. 1701-1706) to deal with the unusual and extraordinary threat to the national security and foreign policy of the United States constituted by the actions and policies of the Government of Iraq—the Saddam Hussein regime. By Executive Orders 12722 of August 2, 1990, and 12724 of August 9, 1990, the President imposed trade sanctions on Iraq and blocked Iraqi government assets. Additional measures were taken with respect to this national emergency by Executive Order 13290 of March 20, 2003. Because of the continued instability in Iraq, the United States and Coalition partners' role as the temporary authority in Iraq, and the need to ensure the establishment of a process leading to representative Iraqi self-rule, the national emergency declared on August 2, 1990, and the measures adopted on August 2 and August 9, 1990, and March 20, 2003, to deal with that emergency must continue in effect beyond August 2, 2003. Therefore, in accordance with section 202(d) of the National Emergencies Act (50 U.S.C. 1622(d)), I am continuing for 1 year the national emergency with respect to Iraq.

This notice shall be published in the Federal Register and transmitted to the Congress.

B

THE WHITE HOUSE,

July 31, 2003.

[FR Doc. 03-19890

Filed 7-31-03; 11:45 am]

Billing code 3195-01-P